ENVIRONMENTAL PROTECTION AGENCY

[FRL-7886-5]

Request for Proposals; Environmental Education Training Program

I. Overview

Federal Agency Name: U.S. Environmental Protection Agency, Office of Environmental Education.

Funding Opportunity Title: Environmental Education Training Program.

Announcement Type: New announcement.

Program Announcement Identifier: EPA-OEE-05-02.

Catalog of Federal Domestic Assistance: 66-950.

Application Deadline: Applications must be postmarked by the U.S. Postal Service or received by a commercial overnight delivery service no later than April 30, 2005.

Where to Send Applications: Kathleen MacKinnon, U.S. EPA Office of Environmental Education, 1200 Pennsylvania Ave., NW., (MC 1704A; RM 1426), Washington, DC. The zip code is 20460 when using the U.S. Postal Service; its 20004 when using a commercial overnight delivery service.

Authorizing Legislation: Section 5, National Environmental Education Act of 1990 (Pub. L. 101-619).

Purpose: To deliver environmental education training and long-term support to education professionals across the U.S. to enable them to effectively teach about environmental issues.

Eligible Applicants: U.S. institutions of higher education, not-for-profit institutions, or a consortia of such institutions.

Number of Awards: Only one cooperative agreement will be awarded to a U.S. institution of higher education, a not-for-profit institution, or a consortium of such institutions.

Funding Amount: $1,699,025 for the first year of the program (FY 2005 appropriations). For planning purposes, funding for years two and three should be estimated at $1.8 million (subject to Congressional appropriations).

Cost-Sharing Requirement: Applicant must provide non-Federal matching funds, or in-kind contributions, of at least 25% of the total cost of the project (a minimum of $566,342).

Project Period: October 1, 2005-September 30, 2006. The Agency intends, based upon annual performance reviews, the availability of funds, and if consistent with Agency policy, to execute supplemental funding agreements for up to four subsequent project periods.

Award Date: By September 30, 2005.

II. Full Text Announcement

Section I: Funding Opportunity Description

A. What Is the Purpose of This Notice?

The purpose of this notice is to invite eligible institutions to submit proposals to operate the national Environmental Education Training Program. This program is authorized under section 5 of the National Environmental Education Act of 1990 (the Act) (Pub. L. 101-619).

B. What Is Environmental Education?

Environmental education increases awareness and knowledge about environmental issues and provides the skills needed to make informed and responsible decisions. It enhances critical thinking, problem solving and effective decision making skills and teaches individuals how to weigh various sides of an environmental issue before making decisions. Environmental education does not advocate a particular viewpoint or course of action.

C. What Is Environmental Education Training and Long-Term Support?

Environmental education training refers to activities such as classes, on-line courses, workshops, seminars, and conferences which are designed to prepare education professionals to effectively teach about environmental issues. Long-term support refers to activities that support the actual training such as: The dissemination of environmental education guidelines; the development of state educator certification programs; and access to information about quality programs and resources.

D. What Is the History of This Program?

There have been three previous multi-year cooperative agreements awarded under this program. In 1992, the first award was made to a consortium headed by the University of Michigan entitled the “National Consortium for Environmental Education and Training” (NCEET). In 1995, the second award was made to a consortium headed by the North American Association for Environmental Education (NAAEE) entitled the “Environmental Education and Training Partnership” (EETAP). In 2000, the third award was made to a consortium headed by the University of Wisconsin-Stevens Point (UWSP) also entitled the “Environmental Education and Training Partnership” (EETAP). The current program is scheduled to be completed by March 31, 2006. The Web site for the current program is http://www.eetap.org.

E. What Is the Purpose of the Training Program?

The purpose of this program is to provide environmental education training and long-term support to education professionals across the U.S. to enable them to effectively teach about environmental issues. Note that long-term support for educators is as important as the training itself. Training and support must:

• Be provided for both formal and non-formal educators (e.g., classroom teachers and faculty at colleges and universities as well as educators in museums, nature centers, and other venues);

• Occur in both pre-service (e.g., for students and faculty in colleges of education) and in-service settings (e.g., for classroom teachers and other practicing educators); and

• Reach geographically and culturally diverse audiences across the U.S. to the maximum extent possible. Educators from Mexico and Canada are also eligible to participate in this program.

F. What Are the Expected Outputs and Outcomes of the Program?

“Output” refers to the activity or work product that the applicant proposes to undertake. “Outcome” refers to the result, effect or consequence that will occur from carrying out the activity or program. The outcomes must be quantitative and may be intermediate (occur during the project period) or long-term (may occur after the project closes). Because this is an education program, the outcomes should be geared toward educational outcomes (especially in the intermediate term). The long-term outcomes may have a broader impact that goes beyond improving educator training such as impacting the public's behavior that may affect environmental quality.

Below is a list of the expected outputs of the program along with a general reference to possible outcomes. These outputs are not listed in any order of priority. The work plan must identify the outputs and provide specific intermediate and long-term outcomes. The outputs should include, but are not limited to, the following:

• Delivering in-service educator training that builds on existing quality environmental education programs. The intermediate outcome is better trained educators. The long-term outcome is a more environmentally literate public.

• Delivering pre-service educator training that enables students and faculty in education departments at colleges and universities to effectively include environmental education in their teaching. The intermediate outcome is better educated students (future educators) and faculty. The long-term outcome is a more environmentally literate public.

• Promoting the national environmental education guidelines that seeks to improve the quality of environmental education. This refers to the guidelines produced by the National Project for Excellence in Environmental Education for education materials, K-12 student outcomes, educator preparation and professional development, and non-formal programs (see http://www.naaee.org/npeee.html). These guidelines were produced with EPA funds. The intermediate outcome is better educational materials, more environmentally literate students, better trained educators, and better non-formal programs. The long-term outcome is a more environmentally literate public.

• Supporting state “infrastructure” that enables educators to effectively teach about environmental issues (referred to as “state capacity building”). This may include, for example, state-directed efforts that produce K-12 instruction requirements, environmental education curriculum resources, correlations of environmental education materials to state standards, and environmental education guidelines. For more information on state capacity building see http://eelink.net/capacitybuilding.html. The intermediate outcome is educators that are better equipped with the materials, resources, and support they need to teach. The long-term outcome is a more environmentally literate public.

• Developing and institutionalizing a materials review process that identifies, evaluates, and promotes quality environmental education materials. The intermediate outcome is better educational materials. The long-term outcome is a more environmentally literate public.

• Supporting accreditation efforts to include environmental education in college and university teacher preparation programs such as through the National Council for the Accreditation of Teacher Education (NCATE). The intermediate outcome is better educated students (future educators). The long-term outcome is a more environmentally literate public.

• Supporting state educator certification efforts by assisting states that are developing their own certification programs. The intermediate outcome is better trained educators. The long-term outcome is a more environmentally literate public.

• Supporting Internet access to information and materials by building on existing Internet sites that provide electronic access to quality environmental education materials, resources, and information. The intermediate outcome is increased educator access to quality resources. The long-term outcome is a more environmentally literate public.

G. How Do These Outputs and Outcomes Support EPA's Strategic Plan?

“Goal 5: Compliance and Environmental Stewardship” of EPA's Strategic Plan is designed to protect human health and the environment by improving environmental behavior through regulatory and non-regulatory means. This goal states that EPA will work to ensure that government, business and the public meet federal environmental requirements and will empower and assist them to do more. The goal also states that EPA programs are designed to, among other things, increase voluntary and self-directed actions to minimize or eliminate pollution before it is generated (pollution prevention) and promote environmental stewardship behavior. “Objective 5.2.1: Prevent Pollution and Promote Environmental Stewardship by Government and the Public” calls for raising the public's awareness of actions it can take to prevent pollution.

The purpose of the national Environmental Education Training Program is to provide educators with training and long-term support to enable them to effectively teach about environmental issues. The outputs of the program are geared toward delivering actual training as well as providing long-term support (e.g., the use of national guidelines that discuss what constitutes quality environmental education materials and what a student needs to know about the environment in grades K-12 to become environmentally literate). The intermediate outcome is better trained educators. The long-term outcome is a more environmentally literate public. A more environmentally literate public is better able to understand complex environmental issues and to make responsible decisions that minimize adverse impacts on the environment. This knowledge and understanding enables the public to take actions that prevent pollution and to become effective environmental stewards.

Section II: Award Information

A. How Many Awards Will be Made?

Only one award will be made under this program to an eligible institution or consortium of such institutions. The award will be made as a one year cooperative agreement. The Agency intends, based upon annual performance reviews, the availability of funds, and if consistent with Agency policy, to execute supplemental funding agreements for up to four subsequent project periods.

B. What Is EPA's Role in the Program?

As a cooperative agreement, EPA will have substantial involvement in the program. This includes EPA participation in the development of an annual work plan and EPA approval of the annual work plan.

C. How Will the Program be Funded?

The program will be funded for an initial project period of one year. The Agency intends, based upon annual performance reviews, the availability of funds, and if consistent with Agency policy, to execute supplemental funding agreements for up to four subsequent project periods. The first year of the program will be provided with FY 2005 appropriations of $1,699,025.

Section III: Eligibility Information

A. Who Is Eligible To Apply To Operate This Program?

Only U.S. institutions of higher education, not-for-profit institutions, or a consortium of such institutions may apply to operate this program as specified under the Act.

B. Does EPA Encourage Applicants To Form a Consortia of Institutions?

Because of the broad and diverse nature of this program, EPA encourages eligible institutions to form a consortia to operate this program.

C. May an Institution be Part of or Submit More Than One Application?

Yes, eligible institutions may be a member of a consortium in more than one application. However, such institutions may not apply as the sole applicant or as the lead institution in a consortium in more than one application.

D. Is Cost-Sharing Required?

Yes, non-Federal matching funds of at least 25% of the total cost of the program are required. The source of matching funds must be identified in the application and may be provided in cash or by in-kind contributions. In-kind contributions often include salaries or other verifiable costs. All in-kind contributions must be for allowable and verifiable costs that are carefully documented. The matching non-Federal share is a percentage of the entire cost of the project. For example, the Federal portion of the project is $1,699,025 for the first year. Thus, the total cost of the project for year one would be a minimum of $2,265,367 if the applicant is providing the minimum 25% cost share of $566,342. Proposals that do not include the required non-Federal match will not be considered for funding.

Section IV: Application and Submission Information

A. Where Can I Get an Application?

You can download an application (SF 424 and SF 424A) from the EPA Office of Environmental Education Web site at http://www.epa.gov/enviroed/educate.html. If you cannot download the application, please contact Kathleen MacKinnon at 202-564-0454 or mackinnon.kathleen@epa.gov.

B. What Must be Included in the Application?

The application must include the following three components (i.e., application, budget, and work plan). Only the finalist will be asked to submit additional federal forms needed to process the application (e.g., certification regarding debarment and lobbying).

(1) Application for Federal Assistance (SF 424): This form requests basic information about proposals such as the name of the project and the amount of money requested. The SF 424 is required for all Federal grants and cooperative agreements. A completed SF 424 for the first year of the program must be submitted as part of the application.

(2) Budget Information: Non-Construction Programs (SF 424A): This form requests budget information by object class categories such as personnel, travel, and supplies. This form is also required for all Federal grants and cooperative agreements. A completed SF 424A for the first year of the program must also be submitted as part of the application. Note that additional budget information describing how the funds will be used for all major activities during the first year is also required under the budget section of the work plan discussed below.

(3) Work Plan: Include a detailed work plan which describes the goals, objectives, outputs, and outcomes of the program. The work plan also indicates how the program will be managed, implemented and evaluated during the first year. The work plan is limited to 20 pages (not including the appendices). The work plan must also discuss in general terms what the goals, objectives, and major outputs and outcomes will be for the second and third years of the program. The work plan is subject to final review, comment, and approval by the EPA Project Officer. The work plan must contain all four sections discussed below.

(a) Summary: A brief synopsis of no more than two pages identifying:

1. The institution requesting funding and its key partners (where the applicant is a consortium of institutions);

2. The goals, objectives, outputs, and outcomes of the program by the end of years one, two, and three;

3. How the proposed program builds on existing national efforts and programs;

4. The estimated number of education professionals to be reached as well as the expected demographics of the audiences reached; and

5. How the funds will be used.

(b) Mission Statement: A statement of the short (first year) and long-term (three to five year) goals, objectives, and expected outcomes of the program. Include a discussion about the needs of the environmental education and education communities and how these needs will be met.

(c) Management and Implementation Plan: A detailed plan of how the project will be managed and implemented in the first year of the program (plus a summary of the project in the second and third years). The plan must: (1) Identify the proposed training and long-term support; (2) discuss how these activities build on existing national efforts and programs; (3) identify all key outputs and outcomes of the project consistent with section II.F.; (4) describe the major responsibilities, qualifications, expertise, and abilities of the Program Director, Program Manager, and key staff as well as key partners where the applicant is a consortium to effectively manage and implement the program; and (5) include a matrix or table identifying all key goals, objectives, outputs, and outcomes, as well as a schedule for conducting and completing these outputs and outcomes during the first year. EPA will consider information provided by the applicant and may consider information from other sources, including Agency files, in evaluating programmatic capability.

(d) Evaluation Plan: A detailed plan on how the effectiveness of the program will be evaluated. It is important that the applicant demonstrate how the outputs and outcomes of their program will meet the goals of the program as well as the needs of the environmental education and education communities. The evaluation must be conducted by an institution that has appropriate credentials and expertise in evaluating education programs and is independent of the applicant and key partners where the applicant is a consortium.

(e) Appendices: Attachments to the work plan containing information on the budget, qualifications and experience of key personnel, and letters of commitment from key partners.

• Budget: A statement describing how funds will be used in the first year, including budget milestones for each major proposed output and a timetable showing the month/year of completion. Estimates must include the allocation of funding for all major outputs. Include indirect costs as well as a statement on the relative effectiveness of the program in terms of the ratio of indirect to direct costs.

• Key Personnel and Letters of Commitment: Include brief resumes of no more than three pages each for the Program Director, Program Manager, key staff, and key partners where the applicant is a consortium with major responsibilities for managing and implementing the program. Resumes should describe educational, administrative, management, and professional qualifications and experience. Also, include a one page “letter of commitment” from each key partner with major responsibilities in the program where the applicant is a consortium of institutions. “Letters of endorsement” from individuals or institutions will not be considered in the evaluation process.

C. How Should the Application be Submitted?

The applicant must submit one original and two copies of the application (a signed SF 424, SF 424A, and a work plan). To help ensure the applications are readable and can be reproduced, please adhere to the following guidelines. Applications should not be bound. They should be on white paper with page numbers. Work plans must be limited to 20 pages (not including the appendices). Evaluators will not read work plans beyond the 20th page. A “page” refers to one side of a single-spaced typed page. The page should be letter sized (8 x 11 inches) with normal type size (10 or 12 cpi). To conserve paper, please provide double-sided copies of the work plan and appendices, where possible.

D. What is the Deadline for Submitting an Application and Where Should it be Sent?

Applications must be sent to EPA through the U.S. Postal Service or through a commercial overnight delivery service. The applications must be postmarked or received by the delivery service no later than April 30, 2005. Any application postmarked or received by the delivery service after this date will not be considered for funding. All applications must be sent to: Kathleen MacKinnon, U.S. EPA, Office of Environmental Education, 1200 Pennsylvania Ave, NW. (MC: 1704A, RM 1426), Washington, DC 20460 (zip code for U.S. Postal Service deliveries), 20004 (zip code for commercial overnight deliveries).

E. Can I Claim my Proposal as Confidential Business Information?

In accordance with 40 CFR 2.203, applicants may claim all or a portion of their application/proposal as confidential business information. EPA will evaluate confidentiality claims in accordance with 40 CFR part 2. Applicants must clearly mark applications/proposals or portions of applications/proposals they claim as confidential. If no claim of confidentiality is made, EPA is not required to make the inquiry to the applicant otherwise required by 40 CFR 2.204(c)(2) prior to disclosure.

F. Is Intergovernmental Review Required?

This program may be eligible for coverage under Executive Order 12372 “Intergovernmental Review of Federal Programs.” An applicant should consult the office or official designated as the single point of contact in his or her State for more information on the process the State requires to be followed in applying for assistance, if the State has selected the program for review. You may obtain additional information on intergovernmental review at http://www.whitehouse.gov/omb/grants/spoc.html.

Section V: Application Review Information

A. What Criteria Will be Used To Evaluate Proposals? How Will Proposals be Scored?

The following criteria will be used to evaluate the proposals. The evaluators will consider the extent to which the proposal:

(1) Demonstrates the capability to develop and deliver effective environmental education training programs and long-term support to education professionals that integrate environmental education: (i) Across the U.S. to a broad and diverse audience, (ii) in both formal and non-formal settings, and (iii) to pre-service and in-service professionals.

(2) Builds on existing national environmental education resources, programs, and long-term support effectively and efficiently, especially in the first year of the program.

(3) Provides a concise plan to track and measure progress toward achieving the outputs and outcomes identified in section I.F.

(4) Clearly describes how funds will be used; links the expenditure of funds to the goals, objectives, outputs and outcomes of the program; ensures the relative economic effectiveness of the program in terms of the ratio of overhead costs to direct services; and demonstrates effective use of public funds.

(5) Demonstrates the qualifications and expertise of the Program Director, Program Manager, and key staff in a range of appropriate disciplines to provide effective environmental education training and long-term support. If the applicant is a consortium of institutions, the applicant must also demonstrate the qualifications and expertise of the key partners in the consortium.

(6) Demonstrates the ability of the Program Director and Program Manager to effectively manage and implement the program by providing strong leadership in setting the direction of and properly overseeing a cohesive program. If the applicant is a consortium of institutions, the applicant must also demonstrate their ability to effectively oversee the work of multiple partner institutions.

The maximum score for each proposal is 120. The six criteria identified above are each worth 20 points.

B. Who Will Review the Proposals and Make the Final Decision?

Federal environmental education officials will evaluate the proposals. The evaluators' comments will enable EPA's Office of Environmental Education to recommend which proposal to fund. This recommendation will be forwarded to the Associate Administrator for the Office of Public Affairs for concurrence.

C. When Will the Award Be Made?

The award will be made by September 30, 2005.

Section VI: Award Administration Information

A. How Will the Grantee and Other Applicants Be Notified?

EPA's Grants Administration Division will provide official notification of the award to the applicant's Project Director by mail by September 30, 2005. EPA's Office of Environmental Education will notify other applicants of their status within 15 calendar days after the final selection is made.

B. How Will Disputes be Resolved?

Assistance agreement competition-related disputes will be resolved in accordance with the dispute resolution procedures published in 70 FR (Federal Register) 3629, 3630 (January 26, 2005) which can be found at http://www.epa.gov/ogd/competition/index.htm. Copies of these procedures can also be obtained by contacting Kathleen MacKinnon, U.S. EPA Office of Environmental Education, at 202-564-0454 or mackinnon.kathleen@epa.gov.

C. What Administrative Requirements Apply to This Grant?

This award will include the standard administrative conditions that apply to all EPA grants and cooperative agreements. Information on these requirements can be obtained by contacting EPA's Grants Administration Division at ogdweb.gad@epa.gov or 202-564-5325.

D. What Post-award Reports are Required?

The award notice will specify the reporting requirements. A detailed progress report is due to the EPA Project Officer bi-annually. A final report is due at the end of the project period.

Section VII: Agency Contact

Please contact Kathleen MacKinnon, U.S. EPA Office of Environmental Education, at 202-564-0454 or mackinnon.kathleen@epa.gov if you have any administrative questions about the solicitation notice. EPA can address only administrative questions and can not provide advice nor interpret the content of the solicitation notice.

Section VIII: Other Information

A. Where Can I Get Additional Information About the Current Training Program?

For information on the current program, visit EPA's environmental education Web site at http://www.epa.gov/enviroed/educate.html or the Environmental Education and Training Partnership's Web site at http://www.eetap.org.

B. What is the Relationship Between the EPA's Environmental Education Training Program and EPA's Environmental Education Grant Program?

This notice applies only to the training program authorized under section 5 of the Act. This notice does not apply to the Environmental Education Grant Program authorized under section 6 of the Act. For information on the Office of Environmental Education, go to http://www.epa.gov/enviroed.

Dated: March 11, 2005.
Cece Kremer,
Deputy Associate Administrator, Office of Public Affairs.

[FR Doc. 05-5413 Filed 3-17-05; 8:45 am]

BILLING CODE 6560-50-P